DEPARTMENT OF ENERGY

Agency Request for Comments on Draft Solicitation for Renewable Energy Projects and Efficient Energy Projects

AGENCY: U.S. Department of Energy.

ACTION: Notice of availability and request for comments.

SUMMARY: The Loan Programs Office (LPO) of the Department of Energy (DOE) announces availability of a draft of a potential future solicitation for Federal Loan Guarantees for Renewable Energy Projects and Efficient Energy Projects. LPO invites comments regarding the draft of the potential future solicitation.

DATES: Comments regarding the draft of the potential future solicitation must be received on or before May 27, 2014.

ADDRESSES: Written comments may be sent to Peter W. Davidson, Executive Director, Loan Programs Office, U.S. Department of Energy, 1000 Independence Avenue SW., Washington, DC 20585. The draft solicitation is available on LPO's Web site at http://www.lgprogram.energy.gov/.

FOR FURTHER INFORMATION CONTACT: Peter W. Davidson, LPOREEESoliciationQuestions@hq.doe.gov.

SUPPLEMENTARY INFORMATION: DOE is considering a potential future solicitation for Federal Loan Guarantees for Renewable Energy Projects and Efficient Energy Projects. Should DOE choose to proceed which such a solicitation, applicants would be invited to apply for loan guarantees from DOE to finance projects and facilities located in the United States that employ innovative renewable energy and energy efficiency technologies (“Renewable Energy Projects and Efficient Energy Projects”). DOE may make up to Two Billion Five Hundred Million Dollars ($2,500,000,000) in loan guarantee authority available under the proposed solicitation for Renewable Energy Projects and Efficient Energy Projects, plus an additional amount that can be imputed based on the availability of an appropriation for the credit subsidy cost of such imputed loan guarantee authority. The amount of total loan guarantee authority that could be available pursuant to the proposed solicitation will depend on credit subsidy rates.

DOE is considering including in the potential future solicitation projects or facilities that use:

(a) Renewable energy systems;

(b) efficient electrical generation, transmission, and distribution technologies; or

(c) efficient end-use energy technologies;

(within the meaning of those terms in Section 1703(b)(1), (6), and (7) of Title XVII). Should DOE choose to proceed which such a solicitation, DOE would look favorably on eligible projects that will have a catalytic effect on the commercial deployment of future Renewable Energy Projects and/or Efficient Energy Projects that replicate or extend the innovative feature of the eligible project. While comments are sought on all aspects of the draft solicitation, DOE is particularly interested in comments regarding technologies that that will have a catalytic effect on the commercial deployment of future Renewable Energy Projects and/or Efficient Energy Projects that replicate or extend the innovative feature of the eligible project.

LPO is announcing a draft of a potential future solicitation for Federal Loan Guarantees for Renewable Energy Projects and Efficient Energy Projects. LPO invites comments regarding the draft of the potential future solicitation.

Authority: Title XVII of the Energy Policy Act of 2005 (42 U.S.C. 16511 et seq.).

Issued in Washington, DC, on April 21, 2014.
April Stephenson,
Chief Operating Officer, Loan Programs Office.

[FR Doc. 2014-09469 Filed 4-24-14; 8:45 am]

BILLING CODE 6450-01-P